DEPARTMENT OF THE INTERIOR

Bureau of Ocean Energy Management

[Docket No. BOEM-2022-0040]

Request for Interest (RFI) in Commercial Leasing for Wind Energy Development on the Gulf of Maine Outer Continental Shelf (OCS)

AGENCY: Bureau of Ocean Energy Management, Interior.

ACTION: Request for interest and comments.

SUMMARY: The Bureau of Ocean Energy Management (BOEM) issues this RFI to assess interest in, and to invite public comment on, possible commercial wind energy leasing on the Gulf of Maine OCS. BOEM will consider information received in response to this RFI to determine whether to schedule a competitive lease sale or to issue a noncompetitive lease for any portion of the area described in this RFI (RFI Area). Those interested in leasing within the RFI Area for a commercial wind energy project should provide detailed and specific information described in the section of this RFI entitled “Required Information for Indication of Commercial Interest.” BOEM also invites all interested and potentially affected parties to comment and provide information—including information on environmental issues and concerns—that may be useful in the consideration of the RFI Area for commercial wind energy leases. Developers and those interested in providing public comments and information regarding site conditions, resources, and multiple uses in close proximity to, or within, the RFI Area should provide information requested in the section of this RFI entitled “Requested Information from Interested or Affected Parties.” BOEM will process the information received in response to this RFI to determine if there is competitive interest to develop renewable energy on the OCS, understand ocean uses, identify conflicts, and deconflict, as appropriate. See the section of this RFI entitled “BOEM's Planning and Leasing Process.”

DATES: Submissions indicating your interest in or providing comments on commercial leasing within the RFI Area must be received no later than October 3, 2022. BOEM may not consider late submissions.

ADDRESSES: Please submit indications of interest electronically via email to renewableenergy@boem.gov or hard copy by mail to the following address: Zachary Jylkka, Bureau of Ocean Energy Management, Office of Renewable Energy Programs, 45600 Woodland Road, Mailstop: VAM-OREP, Sterling, VA 20166. If you elect to mail a hard copy, also include an electronic copy on a portable storage device. BOEM will list the parties that submit indications of competitive interest within the RFI Area on the BOEM website after it has reviewed the qualification documents of each entity indicating interest.

Please submit comments and other information as listed in the section entitled “Requested Information from Interested or Affected Parties” by either of the following two methods:

1. Federal eRulemaking Portal: http://www.regulations.gov. In the entry entitled, “Enter Keyword or ID,” enter BOEM-2022-0040 and then click “search.” Follow the instructions to submit public comments and view supporting and related materials available for this notice.

2. By mail to the following address: Bureau of Ocean Energy Management, Office of Renewable Energy Programs, 45600 Woodland Road, Mailstop: VAM-OREP, Sterling, VA 20166.

Treatment of confidential information is addressed in the section of this notice entitled, “Protection of Privileged, Personal, or Confidential Information.” BOEM will post all comments on regulations.gov unless labeled as confidential.

FOR FURTHER INFORMATION CONTACT: Zachary Jylkka, BOEM Office of Renewable Energy Programs, 45600 Woodland Road, VAM-OREP, Sterling, Virginia 20166, (978) 491-7732, or zachary.jylkka@boem.gov.

SUPPLEMENTARY INFORMATION:

1. Authority

This RFI is published under subsection 8(p)(3) of the Outer Continental Shelf Lands Act (OCSLA), 43 U.S.C. 1337(p)(3), as well as the implementing regulations at 30 CFR 585.210.

2. Purpose

Subsection 8(p)(3) of OCSLA requires BOEM to offer leases competitively, unless BOEM determines that there is no competitive interest. This RFI is a preliminary step to assist BOEM in determining potential interest in offshore wind energy development in the RFI Area. If, following this RFI, BOEM determines that there is competitive interest in any portion of the RFI Area, BOEM may proceed with the competitive leasing process under 30 CFR 585.211 through 585.225. If, following this RFI, BOEM determines that there is no competitive interest in the RFI Area, BOEM may proceed with the noncompetitive leasing process under 30 CFR 585.232. Whether any leasing process is competitive or noncompetitive, BOEM will provide opportunities for the public to provide input.

Additionally, as part of any leasing process, BOEM will conduct a thorough environmental review and requisite consultations with appropriate Federal agencies, federally recognized Tribes, State and local governments, and other interested parties, which will be conducted in conformance with all applicable laws, regulations, and policies. Parties other than those interested in obtaining a commercial lease are welcome to submit comments in response to this RFI.

Concurrent with this notice, BOEM is publishing in the Federal Register a Request for Competitive Interest (RFCI) in response to the State of Maine's proposed OCS lease for wind energy research submitted to BOEM in October 2021 [Docket No. BOEM-2022-0041]. The RFCI specifies information that is required to be submitted by entities wishing to acquire a commercial lease within the RFCI area.

3. Description of the Request for Interest Area

BOEM determined the RFI Area after engaging with the Commonwealth of Massachusetts, the States of New Hampshire and Maine, and with the Gulf of Maine Intergovernmental Renewable Energy Task Force, which included opportunities for public input during its meetings. This RFI Area consists of 13,713,825 acres located off the coasts of Massachusetts, New Hampshire, and Maine (see Figure 1).

The outer perimeter of the RFI area is roughly bounded to the north, east, and west by the boundaries of BOEM's jurisdiction over renewable energy activities on the OCS. BOEM delineated the southern boundary by looking at the oceanographic and ecological features that together uniquely define the Gulf of Maine. BOEM also excluded areas from the RFI Area that were incompatible with offshore wind energy development, including areas that met the following criteria:

• A unit within the National Park System, National Wildlife Refuge System, or National Marine Sanctuary System, and any National Monument (§ 585.204),

• Existing Traffic Separation Schemes, fairways, and other internationally recognized navigation measures, and

• The RFCI area encompassing the State of Maine's lease request.

BOEM's RFI development framework, the map depicting the RFI Area (Figure 1), and a spreadsheet listing its specific OCS blocks are available for download on the BOEM website at https://www.boem.gov/renewable-energy/state-activities/maine/gulf-maine.

4. Requested Information from Interested or Affected Parties

BOEM requests specific and detailed comments from the public and other interested or affected parties on the following subjects. If a commenter recommends an area be excluded from leasing, BOEM also requests data to support any recommended buffers or set-backs from those areas.

In some cases, BOEM possesses spatial data relevant to the categories of information listed below and has made a public data inventory listing those data layers available on the BOEM website at https://www.boem.gov/renewable-energy/state-activities/maine/gulf-maine. Regardless of whether BOEM has existing data for a certain category, BOEM values comments addressing whether the commenter believes the data are the best available, as well as any other perceived gaps in or limitations of the data. Where applicable, spatial information should be submitted in a format compatible with ESRI ArcGis (ESRI shapefile or ESRI file geodatabase) in a geographic coordinate system (NAD 83 datum).

a. Commercial and recreational fishing activities and data, including spatial data (e.g., landings, value, vessel traffic, home ports). Specifically, the use of the areas, types of fishing gear used, anticipated impacts from offshore renewable energy (positive, negative, or neutral), seasonal use, and recommendations for reducing use conflicts. Additional information about port-to-port or port-to-fishing location corridors, determination of appropriate buffers for safety (based on the types of vessel) between these corridors and the placement of structures in the RFI Area, and the density of the types of vessels that utilize these corridors and their ability to use alternative corridors.

b. Protected species and habitat information, including the presence of endangered, threatened, or sensitive avian and marine life and proximity to designated Endangered Species Act (ESA) Critical Habitat and Essential Fish Habitat or Habitat Areas of Particular Concern.

c. Tribal issues of concern and relevant indigenous traditional knowledge.

d. Socioeconomic information for communities potentially affected by wind energy leasing in the RFI Area, including community profiles, vulnerability and resiliency data, and information on environmental justice communities. BOEM also solicits comments on how best to meaningfully engage with these communities.

e. Technical and economic considerations, such as regional energy demand, interconnection opportunities between offshore energy facilities and the onshore electric grid, supply chain concerns, floating foundations, anchoring system considerations, and suggested distances from shore to offshore energy facilities.

f. Information regarding the identification of historic properties or potential effects to historic properties from leasing, site assessment activities (including installation of meteorological buoys), and commercial wind energy development in the RFI Area. This includes potential offshore archaeological sites or other historic properties within the areas described in this notice and also onshore historic properties that could potentially be affected by renewable energy activities within the RFI Area. This information will inform BOEM's review of future undertakings under Section 106 of the National Historic Preservation Act (NHPA) and under the National Environmental Policy Act (NEPA).

g. Information relating to whether the visibility of wind turbines located in the RFI Area would adversely affect the landscape or seascape of coastal areas of the Gulf of Maine. Information regarding strategies that could be used to mitigate or minimize any adverse visual effects, such as: how far offshore turbines should be placed to minimize the visual impact from the coastline; specific locations or areas to avoid development altogether; or any other strategies to help reduce the visual footprint (for example, the color of the turbines or their components, the arrangement or pattern of the turbine array, the dimension of the turbines (e.g., height and blade span), navigation and aviation lighting requirements, and the maximum number of turbines that should be allowed in a specific area).

h. Information regarding the potential for interference with radar systems covering the RFI Area, including, but not limited to, radar systems used for navigation, air traffic control, offshore search and rescue operations, and weather and environmental monitoring.

i. General interest from developers in constructing a backbone transmission system that would transport electricity generated by wind energy projects located offshore in the Gulf of Maine, including a general description of the transmission's proposed path and potential interconnection points with the onshore electric grid.

j. Data and information concerning renewable energy resources and environmental conditions in and around the RFI Area (e.g., oceanographic factors such as seafloor morphology, wind speed, water depth, shallow hazards, sea floor slope, currents, and tidal influence).

k. Data and information concerning the presence of seafloor telecommunications cables, disposal areas, and unexploded ordnance.

l. Information about potentially conflicting uses of the RFI Area, including but not limited to alternative offshore energy (e.g., wave, tidal), aquaculture, maritime navigation, and recreational vessel traffic.

m. BOEM is planning to incorporate ecosystem-based spatial models to support Gulf of Maine planning and leasing. BOEM requests comments on the availability of such models, their relative strengths and weaknesses, and their utility for the Gulf of Maine.

n. Other relevant socioeconomic, biological, or environmental information.

5. Required Information for Indication of Commercial Interest

If you intend to submit one or more indications of interest for a commercial wind energy lease within the RFI Area, you must provide the following information for each indication of interest:

a. The BOEM leasing map name and number, or official protraction diagram number, and the specific whole or partial OCS blocks within the RFI Area that you are interested in leasing. This information should be submitted as an ESRI ArcGis compatible spatial file (ESRI shapefile or ESRI file geodatabase) in a geographic coordinate system (NAD 83 datum). If your indication of interest includes one or more partial blocks, please describe those partial blocks in terms of a sixteenth (i.e., sub-block) of an OCS block.

b. A description of your objectives and the facilities that you would use to achieve those objectives. This should include a description of requested buffers or set-backs from any potential adjacent projects that may be developed as part of this commercial leasing process (to, e.g., minimize wake effect or provide sufficient protection of anchoring systems for floating foundations).

c. A preliminary schedule of proposed activities, including those leading to commercial operations.

d. Available and pertinent data and information concerning renewable energy resources and environmental conditions in the areas that you wish to lease, including energy and resource data and information used to evaluate the area. Where applicable, spatial information should be submitted in a format compatible with ESRI ArcGIS (ESRI shapefile or ESRI file geodatabase) in a geographic coordinate system (NAD 83 datum).

e. Documentation demonstrating that you are legally qualified to hold a lease in accordance with 30 CFR 585.106 and 585.107(b)-(d). Examples of the documentation appropriate for demonstrating your legal qualifications and related guidance can be found on the BOEM website at https://www.boem.gov/sites/default/files/documents/about-boem/Qualification%20Guidelines.pdf. Legal qualification documents that you provide to BOEM may be made available for public review. If you wish that any part of your legal qualification documentation be kept confidential, clearly identify what should be kept confidential and submit it under separate cover (see the section of this RFI entitled “Protection of Privileged, Personal, or Confidential Information”), along with an explanation on why your legal qualifications should not be subject to disclosure.

f. Documentation demonstrating that you are technically and financially capable of constructing, operating, maintaining, and decommissioning the commercial wind energy facility described in your submission in accordance with 30 CFR 585.107(a). Guidance regarding the documentation to demonstrate your technical and financial qualifications can be found at https://www.boem.gov/sites/default/files/documents/about-boem/Qualification%20Guidelines.pdf.

Documentation you submit to demonstrate your legal, technical, and financial qualifications may be provided to BOEM in either hard copy or electronic formats (see the section of this RFI entitled ADDRESSES). BOEM considers an Adobe PDF file on a media storage device to be an acceptable format for an electronic copy.

6. Protection of Privileged, Personal, or Confidential Information

a. Freedom of Information Act

BOEM will protect privileged and confidential information that you submit as required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.113(b) that it qualifies for exemption from disclosure under FOIA. Please label privileged or confidential information “Contains Confidential Information” and consider submitting such information as a separate attachment, along with an explanation on why the information should not be subject to disclosure.

BOEM will not treat as confidential any aggregate summaries of information or comments not containing privileged or confidential information. Additionally, BOEM will not treat as confidential (1) the legal title of the nominating entity (for example, the name of your company), or (2) the list of whole or partial blocks that you are nominating. Information that is not labeled as privileged or confidential may be regarded by BOEM as suitable for public release.

b. Personally Identifiable Information

BOEM does not consider anonymous comments; please include your name and address as part of your comment. You should be aware that your entire comment, including your name, address, and any personally identifiable information (PII) included in your comment, may be made publicly available at any time. Even if BOEM withholds your information in the context of this RFI, your submission is subject to FOIA. If your submission is subject to a FOIA request, your information will only be withheld if a determination is made that one of the FOIA's exemptions to disclosure applies. Such a determination will be made in accordance with the Department of the Interior's FOIA regulations and applicable law.

For BOEM to consider withholding from disclosure your PII, you must identify in a cover letter any information contained in your comment that, if released, would constitute a clearly unwarranted invasion of your personal privacy. You must also briefly describe any possible harmful consequences of the disclosure of your PII, such as embarrassment, injury, or other harm. Note that BOEM will make available for public inspection all comments, in their entirety, submitted by organizations and businesses, or by individuals identifying themselves as representatives of organizations or businesses.

c. Section 304 of the National Historic Preservation Act (54 U.S.C. 307103(a))

After consultation with the Secretary of the Interior, BOEM is required to withhold the location, character, or ownership of historic resources if it determines that disclosure may, among other things, risk harm to the historic resources or impede the use of a traditional religious site by practitioners. Tribal entities should designate information that falls under Section 304 of NHPA as confidential.

7. BOEM's Environmental Review Process

Before deciding whether and where leases may be issued, BOEM will prepare an environmental analysis under the NEPA process and conduct consultations to consider the environmental consequences associated with issuing commercial wind energy leases within the RFI Area. The NEPA analysis will consider the reasonably foreseeable environmental consequences associated with leasing, such as site characterization activities (including geophysical, geotechnical, archaeological, and biological surveys) and site assessment activities (including installation of a meteorological buoy). BOEM also will conduct appropriate consultations concurrently with, and integrated into, the NEPA process. These consultations include those required by the Coastal Zone Management Act, the ESA, the Magnuson-Stevens Fishery Conservation and Management Act, Section 106 of the NHPA, and Executive Order 13175, “Consultation and Coordination with Indian Tribal Governments.”

Before BOEM allows any lessee to begin construction of a wind energy project in the RFI Area, BOEM will consider the environmental effects of the construction and operation of any wind energy facility under a subsequent, separate, and project-specific NEPA process. This separate NEPA process will include additional opportunities for consultations and public involvement and likely will result in the publication of an environmental impact statement.

8. BOEM's Planning and Leasing Process

a. Determination of Competitive Interest

Subsection 8(p)(3) of OCSLA states that “the Secretary [of the Interior] shall issue a lease, easement, or right-of-way . . . on a competitive basis unless the Secretary determines after public notice of a proposed lease, easement, or right-of-way that there is no competitive interest.” Accordingly, BOEM must first determine whether there is competitive interest in acquiring a lease to develop offshore wind energy within the RFI Area. At the conclusion of this RFI's comment period, BOEM will review the indications of interest received and determine if competitive interest exists in any part of the RFI Area.

For areas with two or more valid indications of interest, BOEM may consider proceeding with competitive leasing as described in the section of this RFI entitled “Competitive Leasing Process.” For areas where BOEM determines that only one interested entity exists, BOEM may consider proceeding with noncompetitive leasing, as described in the section entitled “Noncompetitive Leasing Process.” However, BOEM may also determine there is competitive interest in an area with only a single nomination based on input received in response to this notice, market conditions, and the amount of area available for leasing.

If BOEM determines that competitive interest exists in areas BOEM identifies as appropriate to lease, BOEM may hold one or more competitive lease sales for those areas. If BOEM holds a lease sale, all qualified bidders, including bidders that did not submit a nomination in response to this RFI, will be eligible to participate in the lease sale.

BOEM reserves the right to not offer for lease areas nominated as a result of this RFI and to modify such areas from their proposed form before offering them for lease.

b. Competitive Leasing Process

BOEM will follow the steps required by 30 CFR 585.211 through 585.225 if it decides to proceed with the competitive leasing process after analyzing the responses to this RFI. Those steps are:

(1) Call for Information and Nominations (Call): BOEM will publish a Call in the Federal Register for leasing in specified areas. The comment period following the Call will be 45 days. In the Call, BOEM may request comments seeking information on areas that should receive special consideration and analysis; geological conditions (including bottom hazards); archaeological sites on the seabed or nearshore; possible multiple uses of the proposed leasing area (including navigation, recreation, and fisheries); and other socioeconomic, biological, and environmental matters. In response to the Call, potential lessees submit the following information: the area of interest for a possible lease; a general description of the potential lessee's objectives and the facilities that the potential lessee would use to achieve those objectives; a general schedule of proposed activities, including those leading to commercial operations; data and information concerning renewable energy and environmental conditions in the area of interest, including the energy and resource data and information used to evaluate the area of interest; and documentation showing the potential lessee is qualified to hold a lease. However, a potential lessee is not required to resubmit information it has already submitted in response to this RFI.

(2) Area Identification: Based on the information received in response to the RFI and Call, BOEM will determine the level of commercial interest and identify the areas that are appropriate to analyze for potential leasing. Those areas will constitute wind energy areas (WEA) and will be subject to environmental analysis in consultation with appropriate Federal agencies, federally recognized Tribes, State and local governments, and other interested parties.

(3) Proposed Sale Notice (PSN): If BOEM decides to proceed with a competitive lease sale within a WEA after completion of its environmental analysis and consultations, BOEM will publish a PSN in the Federal Register with a comment period of 60 days. The PSN will describe the areas BOEM intends to offer for leasing, the proposed conditions of a lease sale, the proposed auction format of the lease sale, and the lease instrument, including lease addenda. Additionally, the PSN will describe the criteria and process for evaluating bids in the lease sale.

(4) Final Sale Notice (FSN): After considering the comments on the PSN, if BOEM decides to proceed with a competitive lease sale, it will publish an FSN in the Federal Register at least 30 days before the date of the lease sale.

(5) Bid Submission and Evaluation: Following publication of the FSN in the Federal Register, BOEM will offer the lease areas through a competitive sale process, using procedures specified in the FSN. BOEM will review the sale, including bids and bid deposits, for technical and legal adequacy. BOEM will ensure that bidders have complied with all applicable regulations. BOEM reserves the right to reject any or all bids and to withdraw an offer to lease an area, even after bids have been submitted.

(6) Issuance of a Lease: Following identification of the winning bidder on a lease area, BOEM will notify that bidder and provide the lease documents for signature. BOEM requires a winning bidder to sign and return the lease documents, pay the remainder of its bid, if applicable, and file the required financial assurance within 10-business days of receiving the lease documents. Upon receipt of the required payments, financial assurance, and signed lease documents, BOEM may execute a lease with the winning bidder.

c. Noncompetitive Leasing Process

BOEM's noncompetitive leasing process includes the following steps under 30 CFR 585.231 and 585.232:

(1) Determination of No Competitive Interest: If, after evaluating all relevant information, including responses to this RFI, BOEM determines there is no competitive interest in all or a portion of the RFI Area, it may proceed with the noncompetitive lease issuance process. BOEM will determine if the sole respondent who submitted an indication of interest in a particular area intends to proceed with acquiring the lease. If so, the respondent must pay the acquisition fee. After the acquisition fee is paid, BOEM will publish a determination of no competitive interest in the Federal Register.

(2) Review of Lease Request: BOEM will coordinate and consult, as appropriate, with relevant Federal agencies, federally recognized Tribes, affected State and local governments, and other affected or interested parties in reviewing the noncompetitive leasing request and in formulating lease terms, conditions, and stipulations. BOEM also will complete the appropriate environmental analysis to inform its decision-making.

(7) Lease Issuance: After completing its review of the lease request and environmental analysis, BOEM may offer a noncompetitive lease. BOEM requires the respondent to sign and return the lease documents and file the required financial assurance within 10-business days of receiving the lease documents. Upon receipt of the required financial assurance and signed lease documents, BOEM may execute a lease with the respondent.

Amanda Lefton,
Director, Bureau of Ocean Energy Management.

[FR Doc. 2022-17921 Filed 8-18-22; 8:45 am]

BILLING CODE 4310-MR-P